DEPARTMENT OF THE INTERIOR

Bureau of Reclamation

Final Program Environmental Impact Statement/Environmental Impact Report for the San Joaquin River Restoration Program, California

AGENCY: Bureau of Reclamation, Interior.

ACTION: Notice of availability.

SUMMARY: Pursuant to the National Environmental Policy Act and the California Environmental Quality Act, the Bureau of Reclamation and the California Department of Water Resources have prepared a joint Final Program Environmental Impact Statement/Environmental Impact Report (Final PEIS/R), for the implementation of the Stipulation of Settlement in NRDC, et al., v. Rodgers, et al. The Final PEIS/R recommends a proposed action from the alternatives considered in the Draft PEIS/R to achieve the Stipulation of Settlement's restoration and water management goals.

DATES: The Bureau of Reclamation will not make a decision on the proposed action until at least 30 days after release of the Final PEIS/R. After the 30 day waiting period, the Bureau of Reclamation will complete a Record of Decision. The Record of Decision will state the actions that will be implemented and will discuss factors leading to the decisions.

ADDRESSES: A compact disk or a copy of the Final PEIS/R may be requested in writing from Ms. Margaret Gidding, Bureau of Reclamation, 2800 Cottage Way, MP-170, Sacramento, California 95825, by email to mgidding@usbr.gov, or by calling 916-978-5461. The Final PEIS/R is also accessible from the following Web site: www.usbr.gov/mp/nepa/nepa_projdetails.cfm?Project_ID=2940.

Copies of the Final PEIS/R are available to the public, including the following locations:

• Bureau of Reclamation, 2800 Cottage Way, MP-170, Sacramento, California 95825

• Bureau of Reclamation, South-Central California Area Office, 1243 N Street, Fresno, California 93721-1813

• California Department of Water Resources, South Central Region Office, 3374 East Shields Avenue, Fresno, California 93726

• Visalia Branch Library, 200 West Oak Avenue, Visalia, California 93291-4931

• Central Branch, 2420 Mariposa Street, Fresno, California 93721

• Sacramento Public Library, 828 I Street, Sacramento, California 95814

• Merced County, Los Banos Public Library, 1312 S. 7th Street, Los Banos, California 93635-4757

FOR FURTHER INFORMATION CONTACT: Ms. Michelle Banonis at 916-978-5457, via fax at 916-978-5469, or email at mbanonis@usbr.gov. Additional information is available online at www.restoresjr.net.

SUPPLEMENTARY INFORMATION: In 1988, a coalition of environmental groups, led by the Natural Resources Defense Council (NRDC), filed a lawsuit challenging the renewal of long-term water service contracts between the United States and the Central Valley Project (CVP) Friant Division contractors. After more than 18 years of litigation, this lawsuit, known as NRDC, et al., v. Rodgers, et al., was settled. On September 13, 2006, the Settling Parties, including NRDC, Friant Water Users Authority, and the Departments of the Interior and Commerce, agreed on the terms and conditions of the Settlement, which was subsequently approved by the U.S. District Court, Eastern District of California (Court) on October 23, 2006. The Settlement establishes two primary goals:

• Restoration Goal—To restore and maintain fish populations in “good condition” in the mainstem San Joaquin River below Friant Dam to the confluence of the Merced River, including naturally reproducing and self-sustaining populations of salmon and other fish.

• Water Management Goal—To reduce or avoid adverse water supply impacts on all of the Friant Division long-term contractors that may result from the interim and restoration flows provided for in the Settlement.

The planning and environmental review necessary to implement the Settlement is authorized under the San Joaquin River Restoration Settlement Act (Act), included in Public Law 111-11. The Secretary of the Interior is authorized and directed to implement the terms and conditions of the Settlement through the Act. The San Joaquin River Restoration Program (SJRRP), consisting of the Bureau of Reclamation (Reclamation), the California Department of Water Resources (DWR), the U.S. Fish and Wildlife Service (FWS), the National Marine Fisheries Service (NMFS), and the California Department of Fish and Game (DFG), will work to implement the Settlement.

Reclamation, on behalf of the Secretary of the Interior, proposes to implement the terms and conditions of the Settlement, consistent with the Act. Additionally, the Settling Parties agreed that implementation of the Settlement will also require participation of the state of California (State). Therefore, concurrent with the execution of the Settlement, the Settling Parties entered into a Memorandum of Understanding with the State (by and through the California Resources Agency, DWR, DFG, and the California Environmental Protection Agency) regarding the State's role in the implementation of the Settlement. The “implementing agencies,” Reclamation, FWS, NMFS, DWR, and DFG, are responsible for the management of the program to implement the Settlement.

The Final PEIS/R evaluates and documents numerous physical and operational actions that, when implemented, could potentially directly, indirectly, or cumulatively affect environmental conditions in the Central Valley. The Final PEIS/R study area includes areas potentially affected by Settlement actions and involves the San Joaquin River, from Millerton Reservoir to the Sacramento-San Joaquin Delta, and the water service areas of the CVP and State Water Project, including the Friant Division.

The Final PEIS/R selects proposed actions that would be implemented at a program level and will require future project-specific environmental compliance. The Final PEIS/R also analyzes the reoperation of Friant Dam to implement the Settlement at a project level. The project level review for the reoperation of Friant Dam comprises the entire NEPA analysis for this component of the Settlement. The Final PEIS/R provides broad direction for a wide range of possible future actions while allowing the opportunity for flexibility to respond to changing needs.

Public Disclosure

Before including your address, phone number, email address, or other personal identifying information in your communication, you should be aware that your entire communication—including your personal identifying information—may be made publicly available at any time. While you can ask us in your communication to withhold your personal identifying information from public review, we cannot guarantee that we will be able to do so.

Dated: June 27, 2012.
Pablo R. Arroyave,
Deputy Regional Director, Mid-Pacific Region, Bureau of Reclamation.

[FR Doc. 2012-18722 Filed 7-31-12; 8:45 am]

BILLING CODE 4310-MN-P